COMMITTEE FOR PURCHASE FROM PEOPLE WHO ARE BLIND OR SEVERELY DISABLED

Procurement List Additions

AGENCY: Committee for Purchase From People Who Are Blind or Severely Disabled.

ACTION: Additions to Procurement List.

SUMMARY: This action adds to the Procurement List products and services to be furnished by nonprofit agencies employing persons who are blind or have other severe disabilities.

EFFECTIVE DATE: July 13, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On November 29, 2002, March 28, and April 11, 2003, the Committee for Purchase From People Who Are Blind or Severely Disabled published notice (67 FR 71133, 68 FR 15150, and 17770/17771) of proposed additions to the Procurement List.

Regulatory Flexibility Act Certification

After consideration of the material presented to it concerning capability of qualified nonprofit agencies to provide the products and services and impact of the additions on the current or most recent contractors, the Committee has determined that the products and services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

(End of Certification)

Accordingly, the following products and services are added to the Procurement List:

Products

Product/NSN: Aloud Digital Audio Labeling System,

6515-00-NIB-0226.

Product/NSN: Aloud Audio Labels,

6515-00-NIB-0227.

NPA: Central Association for the Blind & Visually Impaired, Utica, New York.

Contract Activity: Veterans Affairs National Acquisition Center, Hines, Illinois.

Product/NSN: Rough and Ready,

7920-00-NIB-0409 (Medium),

7920-00-NIB-0410 (Large).

NPA: New York City Industries for the Blind, Inc., Brooklyn, New York.

Contract Activity: Office Supplies & Paper Products Acquisition Center, New York, New York.

Services

Service Type/Location: Custodial Service (SH)

Federal Building #2, Food Court

Federal Building #2, Five Star Expresso Coffee Bar

Pentagon Building, Au Bon Pain

Pentagon Building, BC Cafe

Pentagon Building, Common area restrooms

Pentagon Building, Corridor 1 Food Court

Pentagon Building, Corridor 10 Food Court

Pentagon Building, Corridor 9/10 Apex, Five Star Expresso Coffee Bar

Pentagon Building, Grease and Garbage Room

Pentagon Building, Loading dock, 1st Floor, Wedge 1

Pentagon Building, Pentagon Dining Room and Kitchen

Pentagon Building, Production Kitchen

Pentagon Building, Wedge 1 Food Court

Pentagon Building, Common area stairs and corridors, 1st Floor, 2nd Floor, 3rd Floor, Washington, DC.

NPA: The Chimes, Inc., Baltimore, Maryland.

Contract Activity: Navy Exchange Service Command (NEXCOM), Virginia Beach, Virginia.

Service Type/Location: Grounds Maintenance, USDA, Forest Service Office, Beaverhead-Deerlodge National Forest, Butte, Montana.

NPA: BSW, Inc., Butte, Montana.

Contract Activity: USDA-US Forest Service, Butte, Montana.

Service Type/Location: Installation Support Services, Fort Hood, Texas.

NPA: Training, Rehabilitation, & Development Institute, Inc., San Antonio, Texas.

Contract Activity: III Corps and Fort Hood Contracting Command, Fort Hood, Texas.

Service Type/Location: Janitorial/Custodial, Armed Forces Reserve Center, Yakima, Washington.

NPA: Yakima Specialties, Inc., Yakima, Washington.

Contract Activity: Naval Facilities Engineering Command—Everett, Everett, Washington.

Service Type/Location: Janitorial/Custodial, U.S. Geological Survey, Klamath Field Office, Klamath Falls, Oregon.

NPA: Klamath County Mental Health, Klamath Falls, Oregon.

Contract Activity: U.S. Geological Survey, Sacramento, California.

Service Type/Location: Operation of Masking/Taping Service, Tobyhanna Army Depot, Tobyhanna, Pennsylvania.

NPA: The Burnley Workshop of the Poconos, Inc., Stroudsburg, Pennsylvania.

Contract Activity: Tobyhanna Army Depot, Tobyhanna, Pennsylvania.

This action does not affect current contracts awarded prior to the effective date of this addition or options that may be exercised under those contracts.

Sheryl D. Kennerly,
Director, Information Management.

[FR Doc. 03-15022 Filed 6-12-03; 8:45 am]

BILLING CODE 6353-01-P